DEPARTMENT OF TRANSPORTATION

Maritime Administration

[Docket Number: MARAD-2002-12912]

Requested Administrative Waiver of the Coastwise Trade Laws

AGENCY: Maritime Administration, Department of Transportation.

ACTION: Invitation for public comments on a requested administrative waiver of the Coastwise Trade Laws for the vessel CORWITH CRAMER.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR part 388 (65 FR 6905; February 11, 2000) that the issuance of the waiver will have an unduly adverse effect on a U.S.-vessel builder or a business that uses U.S.-flag vessels, a waiver will not be granted.

DATES: Submit comments on or before August 28, 2002.

ADDRESSES: Comments should refer to docket number MARAD-2002-12912. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested.

Name of vessel: CORWITH CRAMER. Owner: Sea Education Association (SEA).

(2) Size, capacity and tonnage of vessel. According to the applicant: “LOA: 98 FEET; Beam: 26 feet; Draft: 13 feet; ITC tonnage: 158 gross tons, 47 net tons.”

(3) Intended use for vessel, including geographic region of intended operation and trade. According to the applicant: “Upon receiving the waiver we intend to use the CORWITH CRAMER to carry no more than twelve passengers for hire throughout the United States coastal waters on an occasional basis to enhance our regular operations as a sailing school vessel. By U.S. coastal waters we include the U.S. east coast, west coast, Gulf of Mexico coast as well as the coastal waters of Hawaii and Alaska. Our SSV operations occur offshore throughout the Atlantic and Pacific waters most of the year but approximately 60 days may be spent operating with passengers for hire in the U.S. coastal waters. Any particular port visit is usually less than one week in length. The not more than 12 passengers would include people that SEA invites aboard based on their interest in our vessel and on board education research programs.”

(4) Date and Place of construction and (if applicable) rebuilding. Date of construction: 1987. Place of construction: ASTACE Shipyard in Bilbao, Spain.

(5) A statement on the impact this waiver will have on other commercial passenger vessel operators. According to the applicant: “Granting a waiver for the CORWITH CRAMER will have no adverse impact on other commercial passenger vessel operators for two reasons. First, we will invite only passengers with an interest in our specific vessel and programs and second; we will spend limited time in any one U.S. coastal port as our operations carry us throughout a vast latitudinal region annually.”

(6) A statement on the impact this waiver will have on U.S. shipyards. According to the applicant: “This waiver will have no negative impact on U.S. shipyards as we currently conduct all of our maintenance and repair in U.S. shipyards. It is possible that we will use a wider variety of U.S. shipyards than the three where we currently work.”

Dated: July 23, 2002.
By Order of the Maritime Administrator.
Joel C. Richard,
Secretary, Maritime Administration.

[FR Doc. 02-19043 Filed 7-26-02; 8:45 am]

BILLING CODE 4910-81-P